Order of May 6, 2002

Designation Under Executive Order 12958

In accordance with the provisions of section 1.4 of Executive Order 12958 of April 17, 1995, entitled “Classified National Security Information,” I hereby designate the Administrator of the Environmental Protection Agency to classify information originally as “Secret.”

Any delegation of this authority shall be in accordance with section 1.4(c) of Executive Order 12958.

This order shall be published in the Federal Register.

B

THE WHITE HOUSE,

May 6, 2002.

[FR Doc. 02-11782

Filed 5-8-02; 8:45 am]

Billing code 3195-01-P